SOCIAL SECURITY ADMINISTRATION

Agency Information Collection Activities; Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

The information collections below are pending at SSA. SSA will submit them to OMB within 60 days from the date of this notice. To be sure we consider your comments, we must receive them no later than July 8, 2013. Individuals can obtain copies of the collection instruments by writing to the above email address.

1. Work Incentives Planning and Assistance Program—0960-0629. As part of SSA's strategy to assist Social Security Disability Insurance (SSDI) beneficiaries and Supplemental Security Income (SSI) recipients who wish to return to work and achieve self-sufficiency, SSA established the Work Incentives Planning and Assistance (WIPA) program. This community-based, work incentive, planning and assistance project collects identifying claimant information via project sites and community work incentives coordinators (CWIC). SSA uses this information to ensure proper management of the project, with particular emphasis on administration, budgeting, and training. In addition, project sites and CWICs collect data from SSDI beneficiaries and SSI recipients on background employment, training, benefits, and work incentives. SSA is interested in identifying SSDI beneficiary and SSI recipient outcomes under the WIPA program to determine the extent to which beneficiaries with disabilities and SSI recipients achieve their employment, financial, and health-care goals. SSA will also use the data in its analysis and future planning for SSDI and SSI programs. Respondents are SSDI beneficiaries, SSI recipients, community project sites, and employment advisors.

Type of Request: Revision of an OMB-approved information collection.

Modality of collection | Number of respondents | Frequency of response | Average burden per response (minutes) | Estimated total annual burden (hours)
SSDI and SSI Recipients | 40,000 | 1 | 30 | 20,000
Project Sites | 96 | 1 | 15 | 24
CWICs | 400 | 1 | 20 | 134
Totals | 40,496 |  |  | 20,158

2. Request to Withdraw a Hearing Request; Request to Withdraw an Appeals Council Request for Review; and Administrative Review Process for Adjudicating Initial Disability Claims—20 CFR Parts 404, 405, and 416—0960-0710. Claimants have a statutory right under the Social Security Act and current regulations to apply for SSDI benefits or SSI. SSA must collect information at each step of the administrative process to adjudicate claims fairly and efficiently. SSA collects this information to establish a claimant's right to administrative review and the severity of the claimant's alleged impairments. SSA uses the information to determine entitlement or continuing eligibility to disability insurance benefits or SSI payments and to enable appeals of these determinations. In addition, SSA collects information on Forms HA-85 and HA-86 to allow claimants to withdraw a hearing request or an Appeals Council review request. The respondents are applicants for title II disability insurance benefits or title XVI SSI.

Type of Request: Revision of an OMB- approved information collection.

20 CFR section number | Number of respondents | Frequency of response | Average burden per response (minutes) | Estimated annual burden (hours)
404.961, 416.1461, 405.330, and 405.366 | 12,220 | 1 | 20 | 4,073
404.950, 416.1450, and 405.332 | 1,040 | 1 | 20 | 347
404.949 and 416.1449 | 2,868 | 1 | 60 | 2,868
405.334 | 20 | 1 | 60 | 20
404.957, 416.1457, and 405.380 | 21,041 | 1 | 10 | 3,507
405.381 | 37 | 1 | 30 | 19
405.401 | 5,310 | 1 | 10 | 885
404.971 and 416.1471 (HA-85; HA-86) | 1,606 | 1 | 10 | 268
404.982 and 416.1482 | 1,687 | 1 | 30 | 844
404.987 & 404.988 and 416.1487 & 416.1488 and 405.601 | 12,425 | 1 | 30 | 6,213
405.372(c) | 5,310 | 1 | 10 | 885
405.1(b)(5) 405.372(b) | 833 | 1 | 30 | 417
405.505 | 833 | 1 | 30 | 417
405.1(c)(2) | 5,310 | 1 | 10 | 885
405.20 | 5,310 | 1 | 10 | 885
Totals | 75,850 |  |  | 22,533

Dated: May 3, 2013.
Faye Lipsky,
Reports Clearance Director, Social Security Administration.

[FR Doc. 2013-10877 Filed 5-7-13; 8:45 am]

BILLING CODE 4191-02-P